DEPARTMENT OF THE INTERIOR

Bureau of Reclamation

Information Collection Activities Under OMB Review

AGENCY: Bureau of Reclamation, Interior.

ACTION: Notice of data collection submission.

SUMMARY: In compliance with the Paperwork Reduction act (44 U.S.C. 3501 et seq.), this notice announces that the Information Collection Request (ICR) abstracted below has been forwarded to the Office of Management and Budget (OMB) for review and comment. The ICR describes the nature of the information collection and its expected cost and burden.

DATES: Comments must be submitted on or before April 15, 2002.

ADDRESSES: Comments on this information collection should be submitted to the Office of Information and Regulatory Affairs, Office of Management and Budget, Attention: Desk Officer for the Department of the Interior, 725 17th Street, NW., Washington, DC 20503. A copy of your comments should also be directed to the Bureau of Reclamation, Pacific Northwest Regional Office, Attention Ms. Vicki Kellerman, 1150 N. Curtis Road, Suite 100, Boise, Idaho 83706.

FOR FURTHER INFORMATION CONTACT: For further information or a copy of the proposed collection of information form, contact Ms. Vicki Kellerman at (208) 378-5326.

SUPPLEMENTARY INFORMATION: Comments are invited on: (a) Whether the proposed collection of information is necessary for the proper performance of Reclamation's functions, including whether the information will have practical use; (b) the accuracy of Reclamation's estimated time and cost burdens of the proposed collection of information, including the validity of the methodoly and assumptions used; (c) ways to enhance the quality, use, and clarity of the information to be collected; and (d) ways to minimize the burden of the collection of information on respondents, including increased use of automated collection techniques or other forms of information technology.

Title: Ririe Reservoir Recreation Survey.

Abstract: Ririe Reservoir is located on Willow Creek, a minor tributary of the Snake River in Bonneville County of eastern Idaho. Ririe Reservoir has recreation attributes that serve Idaho Falls, Ririe, and southeastern Idaho, as well as out-of-state visitors. Primary summer activities consist of boating, swimming, fishing, camping, and picnicking. In general the survey will be used to determine carrying capacity for recreation uses on both Reclamation lands and water, and necessary management actions related to recreation, as identified in the Resource Management Plan for this reservoir. Further, the survey will determine if and when boat ramps, docks, trails, parking, and other facilities need to be expanded for recreation during the next 10 years and if the expansion can be accomplished without detriment to natural, recreational, and cultural resources.

Description of respondents: Ririe Reservoir recreationists from Idaho Falls, Ririe, southeastern Idaho, and an indeterminate diversity of out-of-state visitors to Ririe Reservoir.

Frequency: This is a one-time voluntary survey.

Estimated completion time: An average of 30 minutes per respondent.

Annual responses: 250 respondents.

Annual burden hours: 125.

An Agency may not conduct or sponsor, and a person is not required to respond to, a collection of information unless it displays a currently valid OMB control number. Reclamation will display a valid OMB control number on the forms.

The Federal Register notice with a 60-day comment period soliciting comments on this collection of information was published on December 13, 2001 (66 FR 64454). Reclamation did not receive any comments on this collection of information during the comment period.

OMB has up to 60 days to approve or disapprove this information collection, but may respond after 30 days; therefore, public comment should be submitted to OMB within 30 days in order to assure maximum consideration.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Jerrold D. Gregg,
Area Manager.

[FR Doc. 02-6113 Filed 3-13-02; 8:45 am]

BILLING CODE 4310-MN-M